DEPARTMENT OF THE INTERIOR

Bureau of Land Management

[WO-300-1310-PP-OSHL]

Notice of Intent To Prepare a Programmatic Environmental Impact Statement (EIS) and Plan Amendments for Oil Shale and Tar Sands Resources Leasing on Lands Administered by the Bureau of Land Management in Colorado, Utah, and Wyoming

AGENCY: Bureau of Land Management, Interior.

ACTION: Notice of intent.

SUMMARY: In accordance with section 369(d)(1) of the Energy Policy Act of 2005, the Bureau of Land Management (BLM) intends to prepare a Programmatic EIS for Oil Shale and Tar Sands Resources Leasing on Lands Administered by the BLM in Colorado, Utah, and Wyoming, and by this notice is announcing public scoping meetings. The Programmatic EIS will amend existing applicable Resource Management Plans to open lands for oil shale and tar sands resources leasing in these three states. The Programmatic EIS will also inform the development of the regulations required by section 369(d)(2) of the Energy Policy Act of 2005.

DATES: The BLM will accept written comments on the scope of the Programmatic EIS that are postmarked or delivered by January 31, 2006, and electronic comments that are received by January 31, 2006. The BLM will hold public scoping meetings to obtain comments at the following locations on the dates specified below:

Salt Lake City, Utah: Tuesday, January 10, 2006;

Price, Utah: Wednesday, January 11, 2006;

Vernal, Utah: Thursday, January 12, 2006;

Rock Springs, Wyoming: Friday, January 13, 2006;

Rifle, Colorado: Wednesday, January 18, 2006;

Denver, Colorado: Thursday, January 19, 2006;

Cheyenne, Wyoming: Friday, January 20, 2006;

The BLM will announce exact times and locations for all public meetings through the local media, newsletters, and the project Web site (http://ostseis.anl.gov) at least 15 days prior to the meeting. We will provide formal opportunities for public participation upon publication of the Draft Programmatic EIS.

ADDRESSES: You may submit comments by the following methods:

Written: Mail or deliver to BLM Oil Shale and Tar Sands Resources Leasing Programmatic EIS Scoping, Argonne National Laboratory, 9700 S. Cass Avenue, Argonne, IL 60439.

Electronic: Through the Web site at http://ostseis.anl.gov.

FOR FURTHER INFORMATION CONTACT: For further information and/or to have your name added to our mailing list, contact Sherri Thompson, Bureau of Land Management, Colorado State Office, 2850 Youngfield Street, Lakewood, CO 80215, (303) 239-3758 or visit the Oil Shale and Tar Sands Resources Leasing Programmatic EIS Web site at http://ostseis.anl.gov.

SUPPLEMENTARY INFORMATION: This Notice Of Intent provides public notice that the BLM intends to prepare the Programmatic EIS to amend applicable resource management plans to open BLM lands for oil shale and tar sands leasing in Colorado, Utah and Wyoming. It also announces opportunities for the public to provide comments relating to the preparation, scope, and content of the Programmatic EIS. The Programmatic EIS will also inform the development of the regulations required by section 369(d)(2) of the Energy Policy Act of 2005.

The planning area for the oil shale resources is the Piceance and Washakie Basins in Colorado, the Uintah Basin in Utah, and the Green River and Washakie Basins in Wyoming. For the tar sands resources, the planning area is certain sedimentary provinces in the Colorado Plateau in Utah. The plan will fulfill the needs and obligations set forth by the National Environmental Policy Act (NEPA), the Federal Land Policy and Management Act (FLPMA), and BLM policies. The BLM will work collaboratively with interested parties to identify the leasing decisions that are best suited to local, regional, and national needs and concerns. The Programmatic EIS will analyze the no action alternative and leasing under stipulations to protect other resource values and other alternatives identified during scoping. The purpose of the public scoping process is to determine relevant issues that will influence the scope of the environmental analysis and the alternatives. These issues also guide the planning process. You may submit comments on issues and planning criteria in writing to the BLM at any public scoping meeting, or by using one of the methods listed in the ADDRESSES section above. The minutes and list of attendees for each scoping meeting will be available to the public and open for 30 days after the meeting should participants wish to clarify their views. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

Preliminary issues and management concerns have been identified by BLM personnel, other agencies, and in meetings with individuals and user groups. They represent the BLM's knowledge to date regarding the issues and concerns with current land management. The major issues that will be addressed in this planning effort include: Management of the oil shale and tar sands resources; surface and groundwater protection; air quality protection; wildlife and wildlife habitat quality and fragmentation; protection of wilderness, riparian, and scenic values; cultural resource protection; threatened and endangered species and habitat protection; transportation corridors; multiple mineral development; and socio-economic impacts on local economies.

After BLM has gathered public input on issues the plan should address, we will categorize comments as follows:

1. Issues to be resolved in the plan;

2. Issues to be resolved through policy, regulation, or administrative action; or

3. Issues beyond the scope of this plan.

The BLM will provide an explanation in the Programmatic EIS as to why we placed an issue in category two or three. In addition to these major issues, a number of management questions and concerns will be addressed in the Programmatic EIS. The public is encouraged to help identify these questions and concerns during the scoping phase.

Planning criteria are the standards, rules, and other factors used in formulating judgments about data collection, analysis and decisionmaking associated with preparation of the Programmatic EIS. These criteria establish parameters and help focus preparation of the EIS. We welcome public comment on the following preliminary planning criteria, which will be utilized in the preparation of the Programmatic EIS:

A. The Programmatic EIS and plan amendments will be completed in compliance with the Federal Land Policy and Management Act and all other applicable laws.

B. BLM will work collaboratively with the States of Colorado, Utah, and Wyoming, tribal governments, county and municipal governments, other Federal agencies, and all other interested groups, agencies and individuals. Public participation will be encouraged throughout the process.

C. The Programmatic EIS will amend the appropriate individual land use plans to address leasing of oil shale and tar sands resources on BLM-administered lands.

D. A strategy to mitigate socio-economic impacts including the infrastructure to accommodate the required workforce will be addressed in the Programmatic EIS and plan amendments.

E. Preparation of the Programmatic EIS and plan amendments will involve coordination with Native American Tribal governments and will provide strategies for the protection of recognized traditional uses.

F. BLM will coordinate with local, State, and Federal agencies in the Programmatic EIS and plan amendments to strive for consistency with their existing plans and Policies, to the extent practicable.

G. The Programmatic EIS will comply with the legislative directives set forth in the Energy Policy Act of 2005.

The BLM will use an interdisciplinary approach to develop the Programmatic EIS in order to consider the variety of resource issues and concerns identified. Specialists with expertise in the following disciplines will be involved in the planning process: Minerals and geology, wildlife and fisheries, air quality, outdoor recreation, archeology, paleontology, hydrology, soils, sociology and economics.

Thomas P. Lonnie,
Assistant Director, Minerals, Realty, and Resource Protection.

[FR Doc. 05-23976 Filed 12-12-05; 8:45 am]

BILLING CODE 4310-84-P